DEPARTMENT OF COMMERCE

National Oceanic and Atmospheric Administration

[I.D. 012502B]

Marine Mammals; File No.481-1623-00

AGENCY: National Marine Fisheries Service (NMFS), National Oceanic and Atmospheric Administration (NOAA), Commerce.

ACTION: Issuance of permit.

SUMMARY: Notice is hereby given that LGL Ltd., environmental research associates, 22 Fisher Str., P.O.B. 280, King City, Ontario, Canada L7B 1A6 [Principal Investigator: W. John Richardson, Ph.D.]has been issued a permit to take ringed seals (Phoca hispida) and incidentally take bearded seals(Erignathus barbatus) and spotted seals (Phoca largha)for purposes of scientific research.

ADDRESSES: The permit and related documents are available for review upon written request or by appointment in the following office(s):

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

FOR FURTHER INFORMATION CONTACT: Ruth Johnson or Amy Sloan, (301) 713-2289.

SUPPLEMENTARY INFORMATION: On November 19, 2001, notice was published in the Federal Register (66 FR 57939) that a request for a scientific research permit to take above listed species had been submitted by the above-named organization. The requested permit has been issued under the authority of the Marine Mammal Protection Act of 1972, as amended (16 U.S.C. 1361 et seq.), and the Regulations Governing the Taking and Importing of Marine Mammals (50 CFR part 216).

Dated: February 12, 2002.
Eugene T. Nitta,
Acting Chief, Permits, Conservation and Education Division, Office of Protected Resources, National Marine Fisheries Service.

[FR Doc. 02-3983 Filed 2-15-02; 8:45 am]

BILLING CODE 3510-22-S